DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Alaska Saltwater Sport Fishing Economic Survey.

OMB Control Number: 0648-0639.

Form Number(s): None.

Type of Request: Regular (reinstatement without change).

Number of Respondents: 2,902.

Average Hours per Response: Survey, 30 minutes; follow-up telephone interview, 6 minutes.

Burden Hours: 1,374.

Needs and Uses: This request is for a reinstatement, with changes, without change, of a previously approved information collection.

The National Marine Fisheries Service (NMFS) previously collected survey data in 2007 and 2012 for conducting economic analyses of marine sport fishing in Alaska. These surveys were necessary to understand the factors that affect the economic value of marine recreational fishing trips and improve estimates of fishing trip values that can aid fishery managers evaluate management options pertaining to sport fisheries. The proposed survey is an update of the previously conducted surveys and is needed to improve estimates of fishing trip values potentially affected by recent changes in federal recreational fisheries off Alaska, most notably the Halibut Catch Sharing Plan (76 FR 44156) which went into effect in 2014 for the Pacific halibut fishery. Several questions in the survey have been updated to better reflect these recent fishery management changes.

The Federal Government is responsible for the management of the Pacific halibut sport fishery off Alaska, while the State of Alaska manages the salmon sport fisheries (Chinook, coho, sockeye, chum, and pink), as well as several other saltwater sport fisheries. The updated survey's scope covers marine sport fishing for Pacific halibut, salmon, and other popular marine sport species in Alaska (e.g., lingcod and rockfish). The data collected from the survey will be used to update estimates of the demand for and value of marine fishing to anglers and to analyze how the type of fish caught, fishery regulations, and other factors affect fishing values and anglers' decisions to participate in Alaska marine fishing activities. The economic information provided from the survey will help inform fishery managers about the economic values of Alaska marine sport fisheries and the changes to participation in these fisheries with proposed regulations.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 29, 2016.
Sarah Brabson,
NOAA PRA Clearance Officer.

[FR Doc. 2016-21050 Filed 8-31-16; 8:45 am]

BILLING CODE 3510-22-P